DEPARTMENT OF LABOR

Employment and Training Administration

[TA-W-54 086]

Loislaw.Com, Inc., Van Buren, AR; Notice of Negative Determination Regarding Application for Reconsideration

By application postmarked March 5, 2004, a petitioner requested administrative reconsideration of the Department's negative determination regarding eligibility for workers and former workers of the subject firm to apply for Trade Adjustment Assistance (TAA). The denial notice applicable to workers of Loislaw.com, Inc., Van Buren, Arkansas was signed on February 9, 2004, and published in the Federal Register on March 12, 2004 (69 FR 11888).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition was filed on behalf of workers at Loislaw.com, Inc., Van Buren, Arkansas engaged in data entry by digitizing existing public records and making them accessible in an on-line database. The petition was denied because the petitioning workers did not produce an article within the meaning of section 222 of the Act.

The petitioner contends that the Department erred in its interpretation of work performed at the subject facility as a service and further described the functions performed by workers of the subject firm, which consist of editing, coding, quality control and building of the legal material to the internet and CD-ROM. The petitioner further states that edited material put on CD-ROM and the Internet for further consumption by the paying public is a commodity of convenience for the legal profession and should be considered a product.

A company official was contacted for clarification in regard to the nature of the work performed at the subject facility. The official stated that workers at the subject firm are engaged in publishing and collection of electronic and print legal and public records data, which is further digitized into a proprietary format. The official further clarified that only a small portion of the databases are distributed via CD-ROM, with the vast majority of the database customers receiving the edited and digitized data over the internet. According to the company official the burning process of the data on CD-ROM is performed at the subject facility in Van Buren, Arkansas.

The sophistication of the work involved is not an issue in ascertaining whether the petitioning workers are eligible for trade adjustment assistance, but rather only whether they produced an article within the meaning of section 222 of the Trade Act of 1974.

Data collection, editing and coding are not considered production of an article within the meaning of section 222 of the Trade Act. Petitioning workers do not produce an “article” within the meaning of the Trade Act of 1974. Formatted electronic databases and codes are not tangible commodities, that is, marketable products, and they are not listed on the Harmonized Tariff Schedule of the United States (HTS), as classified by the United States International Trade Commission (USITC), Office of Tariff Affairs and Trade Agreements, which describes articles imported to the United States.

To be listed in the HTS, an article would be subject to a duty on the tariff schedule and have a value that makes it marketable, fungible and interchangeable for commercial purposes. Although a wide variety of tangible products are described as articles and characterized as dutiable in the HTS, informational products that could historically be sent in letter form and that can currently be electronically transmitted, are not listed in the HTS. Such products are not the type of products that customs officials inspect and that the TAA program was generally designed to address.

The petitioner also alleges that imports caused layoffs, asserting that because workers lost their jobs due to a transfer of job functions to India, petitioning workers should be considered import impacted.

The company official stated that for a number of years, Loislaw.com has utilized outside vendors to edit the material in India. However, the edited documents are returned to Loislaw.com to the Van Buren, Arkansas facility via electronic copies through the Internet for further control checks in order to be distributed to customers via the Internet or copied and distributed on CD-ROMs. Informational material that is electronically transmitted is not considered production within the context of TAA eligibility requirements, so there are no imports of products in this instance. Further, as the edited material does not become a product until it is recorded on media device, there was no shift in production of an “article” within the meaning of the Trade Act of 1974.

Conclusion

After review of the application and investigative findings, I conclude that there has been no error or misinterpretation of the law or of the facts which would justify reconsideration of the Department of Labor's prior decision. Accordingly, the application is denied.

Signed at Washington, DC, this 12th day of May, 2004.
Linda G. Poole,
Certifying Officer, Division of Trade Adjustment Assistance.

[FR Doc. 04-11624 Filed 5-21-04; 8:45 am]

BILLING CODE 4510-30-P